DEPARTMENT OF LABOR

Employment and Training Administration

[TA-W-81,945]

Pfizer Therapeutic Research, Pfizer Worldwide Research & Development Division, Formerly Known as Warner Lambert Company, Comparative Medicine Department, Including On-Site Leased From Charles River Laboratories and Execupharm, Inc., Groton, Connecticut; Amended Certification Regarding Eligibility To Apply for Worker Adjustment Assistance

In accordance with Section 223 of the Trade Act of 1974, as amended (“Act”), 19 U.S.C. 2273, the Department of Labor issued a Certification of Eligibility to Apply for Worker Adjustment Assistance on October 25, 2012, applicable to workers of Pfizer Therapeutic Research, Pfizer Worldwide Research & Development Division, Comparative Medicine Department, including on-site leased workers from Charles River Laboratories, Groton, Connecticut. The workers are engaged in the supply of scientific research support, animal care and husbandry services. The notice was published in the Federal Register on November 9, 2012 (77 FR 67404).

As a result of a related pending investigation (TA-W-82,518, Pfizer Pharmaceuticals, Groton, Connecticut), the Department reviewed the certification for workers of the subject firm. New information from the company shows that workers leased from ExecuPharm, Inc. were employed on-site at the Groton, Connecticut location of Pfizer Therapeutic Research, Pfizer Worldwide Research & Development Division, formerly known as Warner Lambert Company, Comparative Medicine Department. The Department has determined that these workers were sufficiently under the control of Pfizer Therapeutic Research, Pfizer Worldwide Research & Development Division, formerly known as Warner Lambert Company, Comparative Medicine Department to be considered leased workers.

The intent of the Department's certification is to include all workers of the subject firm who were adversely affected by a shift in services of scientific research support, animal care and husbandry services to a foreign country.

Based on these findings, the Department is amending this certification to include workers leased from ExecuPharm, Inc. working on-site at the Groton, Connecticut location of the subject firm.

The amended notice applicable to TA-W-81,945 is hereby issued as follows:

All workers from Pfizer Therapeutic Research, Pfizer Worldwide Research & Development Division, formerly known as Warner Lambert Company, Comparative Medicine Department, including on-site leased workers from Charles River Laboratories and ExecuPharm, Inc., Groton, Connecticut, who became totally or partially separated from employment on or after September 5, 2011, through October 25, 2014, and all workers in the group threatened with total or partial separation from employment on the date of certification through two years from the date of certification, are eligible to apply for adjustment assistance under Chapter 2 of Title II of the Trade Act of 1974, as amended.

Signed at Washington, DC, this 25th day of April 2013.
Michael W. Jaffe,
Certifying Officer, Office of Trade Adjustment Assistance.

[FR Doc. 2013-11474 Filed 5-14-13; 8:45 am]

BILLING CODE 4510-FN-P